DEPARTMENT OF JUSTICE

Notice of Lodging of Consent Decree under the Comprehensive Environmental Response, Compensation, and Liability Act

Under 28 CFR 50.7, notice is hereby given that on June 6, 2006, a proposed Consent Decree in United States et al. v. Southern Wood Piedmont Company et al., Civil Action No. 90-1240 was lodged with the United States District Court for the Western District of Louisiana.

In this action the United States sought reimbursement for response costs incurred or to be incurred under section 107 of CERCLA, 42 U.S.C. 9607, regarding contaminated facilities owned by Marine Shale Processes, Inc. (“Marine Shale”) and Recycling Park Inc. (“Recycling Park”) located in Amelia, Louisiana.

Under the proposed Consent Decree, Southern Wood Peidmont and its parent Rayonier, Inc. will perform a corrective action and cleanup estimated to cost $1.6 million at the Recycling Park facilities by placing a protective cap over the hazardous constituents in accordance with a work plan with approved by Environmental Protection Agency and the Louisiana Department of Environmental Quality. The two companies also will pay $200,000 toward the cleanup at the Marine Shale facility.

The Department of Justice will received for a period of thirty (30) days from the date of publication of this Consent Decree. Comments should be addressed to the Assistant Attorney General, Environment and Natural Resource Division, P.O. Box 7611, Washington, DC 20044-7611, and should refer to United States v. Southern Wood Piedmont Company, et al., DJ #95-11-2-204. A public hearing will be held regarding the proposed settlement at 7 p.m. on July 19, 2006, at the Morgan City Municipal Auditorium, 705 Myrtle Street, Morgan City, Louisiana.

The Consent Decree may be examined during the public comment period on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.00 (25 cents per page reproduction cost) payable to the U.S. Treasury.

Thomas A. Mariani, Jr.,
Assistant Section Chief, Environmental Defense Section, Environment and Natural Resources Division.

[FR Doc. 06-5767 Filed 6-27-06; 8:45 am]

BILLING CODE 4410-15-M